DEPARTMENT OF VETERANS AFFAIRS

[OMB Control No. 2900-0616]

Proposed Information Collection (Application for Furnishing Long-Term Care Service to Beneficiaries of Veterans Affairs, and Residential Care Home Program) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine non-Federal nursing home qualification to provide care to Veteran patients.

DATES: Written comments and recommendations on the proposed collection of information should be received on or before May 21, 2013.

ADDRESSES: Submit written comments on the collection of information through the Federal Docket Management System (FDMS) at www.Regulations.gov; or to Cynthia Harvey-Pryor, Veterans Health Administration (10B4), Department of Veterans Affairs, 810 Vermont Avenue NW., Washington, DC 20420 or email: cynthia.harvey-pryor@va.gov. Please refer to “2900-0616” in any correspondence. During the comment period, comments may be viewed online through FDMS.

FOR FURTHER INFORMATION CONTACT: Cynthia Harvey-Pryor (202) 461-5870 or Fax (202) 273-9387.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. Application for Furnishing Long-Term Care Services to Beneficiaries of Veterans Affairs, VA Form 10-1170.

b. Residential Care Home Program—Sponsor Application, VA Form 2407.

OMB Control Number: 2900-0616.

Type of Review: Revision of a currently approved collection.

Abstract:

a. VA Form 10-1170 is completed by community agencies wishing to provide long term care to Veterans receiving VA benefits.

b. VA Form 10-2407 is an application used by a residential care facility or home that wished to provide residential home care to Veterans. It serves as the agreement between VA and the residential care home that the home will submit to an initial inspection and comply with requirements for residential care. An agency may not conduct or sponsor, and a person is not required to respond to a collection of information unless it displays a currently valid OMB control number.

Affected Public: Business or other for-profit.

Estimated Annual Burden:

a. VA Form 10-1170—83 hours.

b. VA Form 2407—42 hours.

Estimated Average Burden per Respondent:

a. VA Form 10-1170—10 minutes.

b. VA Form 2407—5 minutes.

Frequency of Response: One time.

Estimated Number of Respondents:

a. VA Form 10-1170—500.

b. VA Form 2407—500.

Dated: March 19, 2013.
By direction of the Secretary.
William F. Russo,
Deputy Director, Office of Regulations Policy and Management, Office of General Counsel, Department of Veterans Affairs.

[FR Doc. 2013-06642 Filed 3-21-13; 8:45 am]

BILLING CODE 8320-01-P